DEPARTMENT OF THE TREASURY

Actions Taken Pursuant to Executive Order 13382

AGENCY: Office of Foreign Assets Control.

ACTION: Notice.

SUMMARY: The Treasury Department's Office of Foreign Assets Control (“OFAC”) is publishing on OFAC's list of Specially Designated Nationals and Blocked Persons (“SDN List”) the names of four newly-designated entities and two individuals, whose property and interests in property are blocked pursuant to Executive Order 13382 of June 28, 2005, “Blocking Property of Weapons of Mass Destruction Proliferators and Their Supporters.” OFAC is also announcing an update to the entry of an individual on OFAC's SDN List by adding an alias to the individual's entry. The designations by the Director of OFAC and addition of the alias, pursuant to Executive Order 13382, were effective on March 28, 2012.

FOR FURTHER INFORMATION CONTACT: Assistant Director, Compliance Outreach & Implementation, Office of Foreign Assets Control, Department of the Treasury, Washington, DC 20220, Tel.: 202/622-2490.

SUPPLEMENTARY INFORMATION:

Electronic and Facsimile Availability

This document and additional information concerning OFAC are available from OFAC's Web site (www.treasury.gov/ofac) or via facsimile through a 24-hour fax-on-demand service, Tel.: 202/622-0077.

Background

On June 28, 2005, the President, invoking the authority, inter alia, of the International Emergency Economic Powers Act (50 U.S.C. 1701-1706) (“IEEPA”), issued Executive Order 13382 (70 FR 38567, July 1, 2005) (the “Order”), effective at 12:01 a.m. eastern daylight time on June 29, 2005. In the Order, the President took additional steps with respect to the national emergency described and declared in Executive Order 12938 of November 14, 1994, regarding the proliferation of weapons of mass destruction and the means of delivering them.

Section 1 of the Order blocks, with certain exceptions, all property and interests in property that are in the United States, or that hereafter come within the United States or that are or hereafter come within the possession or control of United States persons, of: (1) The persons listed in the Annex to the Order; (2) any foreign person determined by the Secretary of State, in consultation with the Secretary of the Treasury, the Attorney General, and other relevant agencies, to have engaged, or attempted to engage, in activities or transactions that have materially contributed to, or pose a risk of materially contributing to, the proliferation of weapons of mass destruction or their means of delivery (including missiles capable of delivering such weapons), including any efforts to manufacture, acquire, possess, develop, transport, transfer or use such items, by any person or foreign country of proliferation concern; (3) any person determined by the Secretary of the Treasury, in consultation with the Secretary of State, the Attorney General, and other relevant agencies, to have provided, or attempted to provide, financial, material, technological or other support for, or goods or services in support of, any activity or transaction described in clause (2) above or any person whose property and interests in property are blocked pursuant to the Order; and (4) any person determined by the Secretary of the Treasury, in consultation with the Secretary of State, the Attorney General, and other relevant agencies, to be owned or controlled by, or acting or purporting to act for or on behalf of, directly or indirectly, any person whose property and interests in property are blocked pursuant to the Order.

On March 28, 2012, the Director of OFAC, in consultation with the Departments of State, Justice, and other relevant agencies, designated four entities and two individuals whose property and interests in property are blocked pursuant to Executive Order 13382.

The list of additional designees is as follows:

Entities and Individuals

1. EZATI, Ali (a.k.a. EZZATI, Ali); DOB 5 Jun 1963; Passport Z19579335 (Iran) (individual) [NPWMD].

2. RASOOL, Seyed Alaeddin Sadat; DOB 23 Jul 1965 (individual) [NPWMD].

3. DEEP OFFSHORE TECHNOLOGY COMPANY PJS, 1st Floor, Sadra Building, No. 3, Shafagh Street, Shahid Dadman Boulevard, Paknejad Boulevard, 7th Phase, Shahrake-E-Quds, Tehran, Iran [IRGC] [NPWMD].

4. IRAN MARINE INDUSTRIAL COMPANY, SADRA (a.k.a. IRAN MARINE INDUSTRIAL COMPANY SSA; a.k.a. IRAN SADRA; a.k.a. IRAN SHIP BUILDING CO.; a.k.a. SADRA; a.k.a. SHERKATE SANATI DARYAI IRAN), 3rd Floor Aftab Building, No. 3 Shafagh Street, Dadman Blvd., Phase 7, Shahrak Ghods, P.O. Box 14665-495, Tehran, Iran; Office E-43 Torre E-Piso 4, Centrao Commercial Lido Av., Francisco de Miranda, Caracas, Venezuela; Web site www.sadra.ir [IRGC] [NPWMD].

5. MALSHIP SHIPPING AGENCY LTD., 143/1 Tower Road, Sliema, Malta; Commercial Registry Number C43447 (Malta) [NPWMD].

6. MODALITY LIMITED, 2, Liza, Fl. 5, Triq Il-Prekursur, Madliena, Swieqi, Malta; Commercial Registry Number C49549 (Malta) [NPWMD].

In addition, on March 28, 2012, the Director of OFAC amended the designation record for NEKA NOVIN to include a new alias and alternate location. The updated entry on the SDN List is as follows:

Individual

NEKA NOVIN (a.k.a. NIKSA NIROU), Unit 7, No. 12, 13th Street, Mir-Emad St., Motahary Avenue, Tehran 15875-6653, Iran; No. 2, 3rd Floor, Simorgh St., Dr. Shariati Avenue, Tehran, Iran [NPWMD].

Dated: March 28, 2012.
Adam J. Szubin,
Director, Office of Foreign Assets Control.

[FR Doc. 2012-11113 Filed 5-8-12; 8:45 am]

BILLING CODE 4810-AL-P